DEPARTMENT OF COMMERCE

National Oceanic and Atmospheric Administration

50 CFR Part 648

[Docket No.011005245-2012-02; I.D. 112202A]

Fisheries of the Northeastern United States; Atlantic Herring Fishery; Total Allowable Catch Harvested for Management Area 1A

AGENCY: National Marine Fisheries Service (NMFS), National Oceanic and Atmospheric Administration (NOAA), Commerce.

ACTION: Closure of directed fishery for Management Area 1A.

SUMMARY: NMFS announces that 95 percent of the Atlantic herring total allowable catch (TAC) allocated to Management Area 1A (Area 1A) for fishing year 2002 has been harvested. Therefore, federally permitted vessels may not fish for, catch, possess, transfer or land more than 2,000 lb (907.2 kg) of Atlantic herring harvested from Area 1A per trip or calendar day until January 1, 2003, when the 2003 TAC becomes available. Regulations governing the Atlantic herring fishery require publication of this notification to advise vessel and dealer permit holders that 95 percent of the Atlantic herring TAC allocated to Area 1A has been harvested, and no TAC is available for the directed fishery for Atlantic herring harvested from Area 1A.

DATES: Effective 0001 hrs local time, December 1, 2002, through 2400 hrs local time, December 31, 2002.

FOR FURTHER INFORMATION CONTACT: Don Frei, Fisheries Management Specialist, at (978) 281-9221.

SUPPLEMENTARY INFORMATION: Regulations governing the Atlantic herring fishery are found at 50 CFR part 648. The regulations require annual specification of optimum yield, domestic and foreign fishing, domestic and joint venture processing, and management area TACs. The 2002 TAC allocated to Area 1A for the fishing year is 60,000 mt (132,277,357 lb). The TAC is further allocated into a period 1 TAC of 6,000 mt (13,227,735 lb), a period 2 TAC of 54,000 mt (119,049,621 lb), with period 1 spanning January 1 - May 31; and period 2, June 1 - December 31. (67 FR 3442, January 24, 2002)

The regulations at 50 CFR 648.202 require the Administrator, Northeast Region, NMFS (Regional Administrator) to monitor the Atlantic herring fishery in each of the four management areas designated in the Fishery Management Plan for the Atlantic Herring Fishery and, based upon dealer reports, state data, and other available information, to determine when the harvest of Atlantic herring is projected to reach 95 percent of the TAC allocated. When such a determination is made, NMFS is required to publish notification in the Federal Register notifying vessel and dealer permit holders that, effective upon a specific date, vessels may not fish for, catch, possess, transfer or land more than 2,000 lb (907.2 kg) of herring per trip or calendar day from the specified management area for the remainder of the fishing year.

The Regional Administrator determined that 95 percent of the Period 1 TAC allocated to Area 1A was harvested on April 26, 2002, and the directed fishery was closed for the remainder of the quota period 1 (67 FR 20056, April 24, 2002).

The Regional Administrator has determined, based upon dealer reports and other available information, that 95 percent of the total Atlantic herring TAC allocated to Area 1A for fishing year 2002 has been harvested. Therefore, effective 0001 hrs local time, December 1, 2002, federally permitted vessels may not fish for, catch, possess, transfer or land more than 2,000 lb (907.2 kg) of Atlantic herring harvested from Area 1A per trip or calendar day until the Period 1 TAC becomes available at 0001 hrs, January 1, 2003. Vessels may transit an area that is limited to the 2,000-lb (907.2-kg) limit with more than 2,000 lb (907.2 kg) of herring on board, provided all fishing gear is stowed and not available for immediate use, as required by § 648.23(b). A vessel may land herring in an area that is limited to the 2,000-lb (907.2-kg) limit specified in § 648.202(a) with more than 2,000 lb (907.2 kg) of herring on board, provided such herring were caught in an area or areas not subject to the 2,000-lb (907.2-kg) limit and provided all fishing gear is stowed and not available for immediate use as required by § 648.23(b). Effective December 1, 2002, federally permitted dealers are also advised that they may not purchase Atlantic herring from federally permitted Atlantic herring vessels that harvest more than 2,000 lb (907.2 kg) of Atlantic herring from Area 1A through January 1, 2003, 0001 hrs local time.

Classification

This action is required by 50 CFR part 648 and is exempt from review under E.O. 12866.

Authority: 16 U.S.C. 1801 et seq.

Dated: November 22, 2002.
Richard W. Surdi,
Acting Director, Office of Sustainable Fisheries, National Marine Fisheries Service.

[FR Doc. 02-30228 Filed 11-25-02; 4:34 pm]

BILLING CODE 3510-22-S